DEPARTMENT OF ENERGY

Federal Energy Regulatory Commission

Combined Notice of Filings

Take notice that the Commission has received the following Natural Gas Pipeline Rate and Refund Report filings:

Filings Instituting Proceedings

Docket Number: PR16-73-001.

Applicants: Bridgeline Holdings, L.P.

Description: Tariff filing per 284.123(b), (e): Bridgeline Holdings Amended SOC 10-25-16 to be effective 10/1/2016; Filing Type: 1270.

Filed Date: 10/26/2016.

Accession Number: 201610265026.

Comments Due: 5 p.m. ET 11/16/16.

284.123(g) Protests Due: 5 p.m. ET 11/16/16.

Docket Numbers: RP17-63-000.

Applicants: Trailblazer Pipeline Company LLC.

Description: § 4(d) Rate Filing: Neg Rate 2016-10-28 Green Plains to be effective 11/1/2016.

Filed Date: 10/26/16.

Accession Number: 20161026-5035.

Comments Due: 5 p.m. ET 11/7/16.

Docket Numbers: RP17-64-000.

Applicants: DBM Pipeline, LLC.

Description: § 4(d) Rate Filing: Negotiated Rate Filing to be effective 11/1/2016.

Filed Date: 10/26/16.

Accession Number: 20161026-5038.

Comments Due: 5 p.m. ET 11/7/16.

Docket Numbers: RP17-65-000.

Applicants: Natural Gas Pipeline Company of America.

Description: § 4(d) Rate Filing: Shell Energy North Negotiated Rate to be effective 11/1/2016.

Filed Date: 10/26/16.

Accession Number: 20161026-5043.

Comments Due: 5 p.m. ET 11/7/16.

Docket Numbers: RP17-66-000.

Applicants: Rockies Express Pipeline LLC.

Description: § 4(d) Rate Filing: Neg Rate Perm Partial CR ARM to be effective 11/1/2016.

Filed Date: 10/26/16.

Accession Number: 20161026-5050.

Comments Due: 5 p.m. ET 11/7/16.

Docket Numbers: RP17-67-000.

Applicants: Rockies Express Pipeline LLC.

Description: § 4(d) Rate Filing: Neg Rate 2016-10-26 Encana for 10-27 to be effective 10/27/2016.

Filed Date: 10/26/16.

Accession Number: 20161026-5062.

Comments Due: 5 p.m. ET 11/7/16.

Docket Numbers: RP17-68-000.

Applicants: Natural Gas Pipeline Company of America

Description: § 4(d) Rate Filing: Munich RE Trading Negotiated Rate to be effective 11/1/2016.

Filed Date: 10/26/16.

Accession Number: 20161026-5064.

Comments Due: 5 p.m. ET 11/7/16.

Docket Numbers: RP17-69-000.

Applicants: Iroquois Gas Transmission System, L.P.

Description: § 4(d) Rate Filing: 10/26/16 Negotiated Rates—Hartree Partners, LP (RTS) 7090-02 to be effective 11/1/2016.

Filed Date: 10/26/16.

Accession Number: 20161026-5116.

Comments Due: 5 p.m. ET 11/7/16.

Docket Numbers: RP17-70-000.

Applicants: Iroquois Gas Transmission System, L.P.

Description: § 4(d) Rate Filing: 10/26/16 Negotiated Rates—Hartree Partners, LP (RTS) 7090-03 to be effective 11/1/2016.

Filed Date: 10/26/16.

Accession Number: 20161026-5117.

Comments Due: 5 p.m. ET 11/7/16.

Docket Numbers: RP17-71-000.

Applicants: Algonquin Gas Transmission, LLC.

Description: § 4(d) Rate Filing: AGT FRQ 2016 Filing to be effective 12/1/2016.

Filed Date: 10/26/16.

Accession Number: 20161026-5120.

Comments Due: 5 p.m. ET 11/7/16.

Docket Numbers: RP17-72-000.

Applicants: Natural Gas Pipeline Company of America.

Description: § 4(d) Rate Filing: Seven Generations Negotiated Rate to be effective 11/1/2016.

Filed Date: 10/27/16.

Accession Number: 20161027-5000.

Comments Due: 5 p.m. ET 11/8/16.

Docket Numbers: RP17-73-000.

Applicants: Southern LNG Company, L.L.C.

Description: § 4(d) Rate Filing: SLNG Electric Power Cost Adjustment—2016 to be effective 12/1/2016.

Filed Date: 10/27/16.

Accession Number: 20161027-5050.

Comments Due: 5 p.m. ET 11/8/16.

Docket Numbers: RP17-74-000.

Applicants: Viking Gas Transmission Company.

Description: Compliance filing 2015-2016 Gas Sales and Purchases Report.

Filed Date: 10/27/16.

Accession Number: 20161027-5057.

Comments Due: 5 p.m. ET 11/8/16.

Docket Numbers: RP17-75-000.

Applicants: Midwestern Gas Transmission Company.

Description: Compliance filing 2015-2016 Gas Sales and Purchases Report.

Filed Date: 10/27/16.

Accession Number: 20161027-5059.

Comments Due: 5 p.m. ET 11/8/16.

Docket Numbers: RP17-76-000.

Applicants: Midwestern Gas Transmission Company.

Description: Compliance filing 2015-2016 Cashout Report.

Filed Date: 10/27/16.

Accession Number: 20161027-5071.

Comments Due: 5 p.m. ET 11/8/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2016.
Nathaniel J. Davis, Sr.,
Deputy Secretary.

[FR Doc. 2016-26542 Filed 11-2-16; 8:45 am]

BILLING CODE 6717-01-P